DEPARTMENT OF HOMELAND SECURITY

Coast Guard

[Docket No. USCG-2023-0396]

National Maritime Security Advisory Committee; August 2023 Meetings

AGENCY: U.S. Coast Guard, Department of Homeland Security.

ACTION: Notice of Federal advisory committee meetings.

SUMMARY: The National Maritime Security Advisory Committee (Committee) will conduct a series of meetings over 2 days in Washington, DC to review and discuss on matters relating to national maritime security, including enhancing the sharing of information related to cybersecurity risks that may cause a transportation security incident, between relevant Federal agencies and State, local, and tribal governments; relevant public safety and emergency response agencies; relevant law enforcement and security organizations; maritime industry; port owners and operators; and terminal owners and operators. All meetings will be open to the public.

DATES:

Meetings: The Committee will meet on Tuesday, August 22, 2023, from 9 a.m. until noon Eastern Daylight Time (EDT), and on Wednesday, August 23, 2023, from 9 a.m. until noon EDT. Please note these meetings may close early if the Committee has completed its business.

Comments and supporting documentation: To ensure your comments are received by Committee members before the meetings, submit your written comments no later than August 15, 2023.

ADDRESSES: The meetings will be held at The American Waterways Operators, 801 North Quincy Street, Suite 500, Arlington, VA 22203. The meetings will also be held virtually. To join the virtual meetings or to request special accommodations, contact the individual listed in the FOR FURTHER INFORMATION CONTACT section no later than 1 p.m. EDT on August 15, 2023, to obtain the needed information. The number of virtual lines is limited and will be available on a first-come, first-served basis.

Pre-registration information: Pre-registration is required for attending virtual meetings. You must request attendance by contacting the individual listed in the FOR FURTHER INFORMATION CONTACT section of this notice. You will receive response with attendance instructions.

The National Maritime Security Advisory Committee is committed to ensuring all participants have equal access regardless of disability status. If you require reasonable accommodations due to a disability to fully participate, please email Mr. Ryan Owens at ryan.f.owens.uscg.mil or call (202) 302-6565 as soon as possible.

Instructions: You are free to submit comments at any time, including orally at the meetings as time permits, but if you want Committee members to review your comment before the meetings, please submit your comments no later than August 15, 2023. We are particularly interested in comments regarding the topics in the “Agenda” section below. We encourage you to submit comments through the Federal eRulemaking Portal at https://www.regulations.gov. If your material cannot be submitted using https://www.regulations.gov, call or email the individual in the FOR FURTHER INFORMATION CONTACT section of this document for alternate instructions. You must include the docket number USCG-2023-0396. Comments received will be posted without alteration at https://www.regulations.gov including any personal information provided. You may wish to review the Privacy and Security Notice found via a link on the homepage https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or email at ryan.f.owens@uscg.mil.

SUPPLEMENTARY INFORMATION: Notice of this meeting is in compliance with the Federal Advisory Committee Act, (Pub. L. 117-286, 5 U.S.C., ch. 10). The Committee is authorized, by section 602 of the Frank LoBiondo Coast Guard Authorization Act of 2018, Public Law 115-282, 132 Stat. 4190, and is codified in 46 U.S.C. 70112. The Committee operates under the provisions of the Federal Advisory Committee Act and 46 U.S.C. 15109. The National Maritime Security Advisory Committee provides advice, consults with, and makes recommendations to the Secretary of Homeland Security, via the Commandant of the U.S. Coast Guard, on matters relating to national maritime security.

Agenda

Day 1

The agenda for the National Maritime Security Advisory Committee meeting is as follows:

Tuesday, August 22, 2023

(1) Call to Order.

(2) Introduction.

(3) Designated Federal Official Remarks.

(4) Roll call of Committee members and determination of quorum.

(5) Remarks from Committee Leadership.

(6) Discussion of ongoing task. The Committee will provide an update on the following task:

a. Task T-2022-5: Working Group on Cybersecurity Information Sharing.

(7) Discussion of new tasks. The Committee will engage in discussion on new tasks being proposed by the U. S. Coast Guard.

a. Task T-2023-1: Update of NVIC 03-03, “Implementation Guidance for the Regulations Mandated by the Maritime Transportation Security Act of 2002 for Facilities.”

b. Task T-2023-2: Active Shooter/Active Threat in the Maritime Environment

c. Task T-2023-3: Unmanned Systems in the Maritime Environment

(8) Public Comment Period.

(9) Meeting Recess.

Day 2

The agenda for the National Maritime Security Advisory Committee meeting is as follows:

Wednesday, August 23, 2023

(1) Call to order.

(2) Introduction.

(3) Designated Federal Official Remarks.

(4) Committee Chair Remarks.

(5) Committee Sector Report. Committee members will provide an update on related efforts within their sector and will provide items of future interest for the Committee to consider.

(6) Public Comment Period.

(7) Closing Remarks/Plans for Next Meeting.

(8) Adjournment of Meeting.

A copy of all meeting documentation will be available at https://homeport.uscg.mil/NMSAC no later than August 18, 2023. Alternatively, you may contact Mr. Ryan Owens as noted in the FOR FURTHER INFORMATION CONTACT section above.

There will be a public comment period at the end of meetings. Speakers are requested to limit their comments to 3 minutes. Please note that the public comment period may end before the period allotted, following the last call for comments.

Please contact the individual listed in the FOR FURTHER INFORMATION CONTACT section above to register as a speaker.

Dated: July 11, 2023.
Amy M. Beach,
Captain, U.S. Coast Guard, Director of Inspections and Compliance.

[FR Doc. 2023-15015 Filed 7-14-23; 8:45 am]

BILLING CODE 9110-04-P